DEPARTMENT OF THE INTERIOR

Bureau of Ocean Energy Management

[Docket No. BOEM-2025-0681]

Notice of Intent To Prepare a Programmatic Environmental Impact Statement for Proposed Oil and Gas Lease Sales in the Northern, Central, and Southern California Program Areas

AGENCY: Bureau of Ocean Energy Management, Interior.

ACTION: Notice of intent to prepare a programmatic environmental impact statement; request for comments.

SUMMARY: Consistent with the U.S. Department of the Interior (Department or DOI) regulations and handbook implementing the National Environmental Policy Act (NEPA), the Bureau of Ocean Energy Management (BOEM) announces its intent to prepare a programmatic environmental impact statement (PEIS) (Unique Identification Number DOI-BOEM-PC-2026-0001-EIS) for proposed oil and gas lease sales in the Northern, Central, and Southern California Program Areas (California Oil and Gas PEIS). This notice of intent (NOI) serves to announce the scoping process BOEM will use to identify significant issues and potential alternatives for consideration in the California Oil and Gas PEIS. On November 20, 2025, DOI published the first of three proposals during the development of the 11th National Outer Continental Shelf (OCS) Oil and Gas Leasing Program (11th National Program). The Secretary's Draft Proposed Program for the 11th National Program includes one proposed lease sale in the Northern California Program Area, two proposed lease sales in the Central California Program Area, and three proposed lease sales in the Southern California Program Area. Because the first California lease sale is tentatively scheduled to occur near the beginning of the 11th National Program and given the long lead time needed to prepare for a proposed sale, BOEM must initiate the lease sale planning process and prepare the PEIS simultaneously with the development of the 11th National Program.

DATES: BOEM will consider comments from all interested parties including Federal, State and local governments, and the general public, may submit written comments by March 30, 2026.

ADDRESSES: Information regarding the scoping process for the PEIS is available on the BOEM website at: https://www.boem.gov/CA-OGPEIS.

Written comments can be submitted through the regulations.gov web portal: Navigate to https://www.regulations.gov and search for Docket BOEM-2025-0681, or “Pacific Region Outer Continental Shelf (OCS) Oil and Gas Programmatic Environmental Impact Statement, California Program Areas”, and click on the “Comment” button. Enter your information and comment, and then click “Submit.”

FOR FURTHER INFORMATION CONTACT: For information on the California Oil and Gas PEIS, the submission of comments, or BOEM's policies associated with this notice, please contact Susan Zaleski, Acting Regional Supervisor, Office of Environment, BOEM, Pacific OCS Region, 760 Paseo Camarillo, Suite 102, Camarillo, CA 93010, (805) 384-6328 or susan.zaleski@boem.gov.

SUPPLEMENTARY INFORMATION: The proposed lease sale areas in the Draft Proposed Program include all available OCS blocks in the Northern, Central, and Southern California Program Areas. The Northern, Central, and Southern California Program Areas are located offshore of the State of California and consist of 11,876 whole and partial lease blocks covering roughly 26.2 million hectares (approximately 65 million acres) of the Pacific Ocean. On January 27, 2026, the Calls for Information and Nominations (Call) for the proposed lease sales offshore Southern California (91 FR 3537) and Central California (91 FR 3534) were published in the Federal Register. Information regarding the Calls, including maps of the proposed Program Areas, are available on the BOEM website at: https://www.boem.gov/California-oil-and-gas-leasing.

Purpose and Need for the Proposed Action:

The purpose of the Proposed Action is to provide access to OCS lease blocks that may contain economically recoverable oil and gas reserves. After additional reviews and authorizations, the Proposed Action would facilitate potential exploration, development and production on the leased blocks. A lease sale would provide a bidding opportunity to obtain a lease with conditional rights to explore, develop, and produce oil and natural gas.

The need for the Proposed Action is to further the orderly development of OCS oil and gas resources in accordance with the Outer Continental Shelf Lands Act of 1953 (OCSLA), as amended (43 United States Code [U.S.C.] 1331 et seq.). A proposed OCS lease sale offshore California may lead to oil and gas exploration, development, and production. Oil and gas from the California OCS could help meet national energy needs, in accordance with Executive Order (E.O.) 14154, Unleashing American Energy (January 20, 2025) and E.O. 14156, Declaring a National Energy Emergency (January 20, 2025).

Proposed Action and Preliminary Alternatives

The Proposed Action (Alternative A) evaluated in this PEIS (Unique Identification Number DOI-BOEM-PC-2026-0001-EIS) is to hold an oil and gas lease sale on the OCS offshore California offering all lease blocks for the three California Program Areas. The analysis will cover leasing and steps through exploratory drilling. The PEIS will also address at a high-level the effects from reasonably foreseeable development and production activities. This PEIS is expected to be used to inform the decision for the first California lease sale proposed in the 11th National Program. It also is expected to be used, and supplemented as appropriate, for individual decisions on future proposed California lease sales. BOEM will have more specific information at the Development and Production Plan stage and will also conduct an Environmental Impact Statement at that stage, should any leases reach development and the lessees submit one or more plans.

In this PEIS, BOEM expects to consider two alternatives to the Proposed Action: Alternative B, the No Action Alternative and Alternative C, an Existing Infrastructure lease sale. Alternative B (No Action) is the cancellation of a single proposed California lease sale.

Alternative C (Existing Infrastructure). Under Alternative C, a California lease sale would include only lease blocks that could be developed from existing infrastructure. The only existing infrastructure offshore California is in the Southern California Program Area, where oil and gas activities have been permitted since the 1920's. There have been over 1,650 exploratory and development wells drilled in the Southern California Program Area as a result of leasing from past OCS programs.

Under this Alternative, the lease sale area would be reduced to an area expected to result in the leases that could be issued near or adjacent to existing infrastructure, allowing lessees to use existing infrastructure to develop nearby newly leased fields. Under Alternative C, the lease sale area would be within a reasonable range of the existing infrastructure in the Southern California Program Area, and while there would be additional wells expected, other infrastructure could be tied into existing offshore infrastructure (e.g., pipelines for transport to shore and for processing), likely reducing the need for new infrastructure in state submerged waters or to reach the coast for onshore transport and processing.

Summary of Potential Impacts

Potential impacts to resources may include adverse or beneficial impacts on air quality; water quality; vegetation and wetlands; benthic communities and habitats; fishes and invertebrates; marine and coastal birds; marine mammals; terrestrial mammals; economic factors; and cultural, historical, and archaeological resources. These potential impacts will be analyzed in the California Oil and Gas PEIS.

Based on a preliminary evaluation of these resources, BOEM expects potential impacts on the resources listed above from routine air emissions, discharges and wastes, bottom disturbance, noise, coastal land use or modification, lighting and visual impacts, offshore habitat modification or space use, and socioeconomic changes. Additional impacts may occur from accidental events, such as unintentional releases into the environment, response activities, or strikes and collisions.

In accordance with the Department's NEPA implementing regulations and handbook, BOEM does not plan to issue a draft PEIS for public comment and will not hold any public meetings. Public comments on preparation of the California Oil and Gas PEIS will be accepted during the 30-day scoping comment period. After the California Oil and Gas PEIS is completed, BOEM will make the PEIS available on its website and the U.S. Environmental Protection Agency will publish a notice of availability. If the 11th National Program includes Northern, Central, or Southern California lease sales and, at the conclusion of the lease sale process the Secretary or their designee decides to hold a sale, a Record of Decision and Final Notice of Sale will be issued at least 30 days prior to each California lease sale.

Scoping Process

This NOI does not announce a decision to hold a lease sale, but serves to commence the information gathering process for identifying issues and potential alternatives for consideration in the California Oil and Gas PEIS. Comments received during the scoping period will inform the scope and content of the California Oil and Gas PEIS. Throughout the scoping process, Federal, Tribal, State, and local governments, and the general public have the opportunity to provide input to BOEM in determining significant resources, issues, impacting factors, reasonable alternatives, and potential mitigation measures to be analyzed in the PEIS, and to provide additional information. BOEM will consider alternatives, exclusion, and/or mitigation suggestions identified during the comment period initiated by this NOI in the preparation of the PEIS. BOEM will also use the NEPA comment process to seek public involvement and to initiate, as warranted, the Section 106 consultation process under the National Historic Preservation Act (NHPA) (54 U.S.C. 300101 et seq.), as provided for in 36 CFR 800.2(d)(3). As part of its compliance with NHPA Section 106 and its implementing regulations (36 CFR part 800), BOEM seeks comment and input from the public and consulting parties regarding the identification of historic properties and potential effects within the Program Areas.

Cooperating Agencies

BOEM, as the lead agency, invites qualified government entities, such as Federally Recognized Tribes, other Federal agencies, and State, and local governments, to consider becoming cooperating agencies for the preparation of the California Lease Sale PEIS. Following the guidelines in Section 1.7 of the DOI NEPA Handbook and DOI's NEPA implementing regulations at 43 CFR part 46, qualified agencies and governments are those with “jurisdiction by law or special expertise.” Potential cooperating agencies should consider their authority and capacity to assume the responsibilities of a cooperating agency and remember that an agency's role in the environmental analysis neither enlarges nor diminishes the final decision-making authority of any other agency involved in the NEPA process. Upon request, BOEM will provide potential cooperating agencies with a written summary of guidelines for cooperating agencies, including time schedules and critical action dates, milestones, responsibilities, scope and detail of cooperating agencies' contributions, and availability of pre-decisional information. BOEM anticipates this summary will form the basis for a Memorandum of Understanding between BOEM and any cooperating agency. BOEM, as the lead agency, will not provide financial assistance to cooperating agencies. For additional information about cooperating agencies, please contact Susan Zaleski, Acting Regional Supervisor, Office of Environment, BOEM (805) 384-6328 or susan.zaleski@boem.gov.

Request for Comments

All interested parties, including Federal, State, and local governments, and the general public, may submit written comments on the scope of the California Oil and Gas PEIS, significant issues, reasonable alternatives, potential mitigation measures, and the types of oil and gas activities of interest in the proposed lease sale areas. Federally recognized tribal nations wishing to comment may choose when and how to convey their input, including through the comment process described here, and they may also choose to request government-to-government consultation.

Comments that you submit in response to this NOI are a matter of public record. You should be aware that your entire comment—including your address, phone number, email address, or other personally identifiable information included in your comment—may be made publicly available at any time. Even if BOEM withholds your personally identifiable information in the context of this NOI, your comment is subject to the Freedom of Information Act (FOIA) (5 U.S.C. 552). Your information will only be withheld if a determination is made that one of the FOIA exemptions to disclosure applies. Such a determination will be made in accordance with the Department's FOIA implementing regulations (43 CFR part 2) and applicable laws.

In order for BOEM to consider withholding from disclosure your personally identifiable information, you must identify, in a cover letter, any information contained in the submittal of your comments that, if released, would constitute a clearly unwarranted invasion of your personal privacy. You must also briefly describe any possible harmful consequences of the disclosure of information, such as embarrassment, injury, or other harm. Note that BOEM will make available for public inspection, in their entirety, all comments submitted by organizations and businesses, or by individuals identifying themselves as representatives of organizations or businesses.

Authority: This NOI is published pursuant to DOI's regulations (43 CFR part 46) implementing the procedural provisions of NEPA, as amended (42 U.S.C. 4321 et seq.).

Matthew Giacona,
Acting Director, Bureau of Ocean Energy Management.

[FR Doc. 2026-03973 Filed 2-26-26; 8:45 am]

BILLING CODE 4340-98-P